ENVIRONMENTAL PROTECTION AGENCY

40 CFR Part 62

[EPA-R05-OAR-2008-0952; FRL-8688-1]

Direct Final Approval of Revised Municipal Waste Combustor State Plan for Designated Facilities and Pollutants: Indiana

AGENCY: Environmental Protection Agency (EPA).

ACTION: Direct final rule.

SUMMARY: EPA is approving revisions to Indiana's State Plan to control air pollutants from large Municipal Waste Combustors (MWC). The Indiana Department of Environmental Management (IDEM) submitted the State Plan on August 24, 2007. The revisions are consistent with Emission Guideline (EG) amendments promulgated by EPA on May 10, 2006. This approval means that EPA finds that the State Plan amendments meet applicable Clean Air Act (Act) requirements for large MWCs for which construction commenced on or before September 20, 1994. Once effective, this approval also makes the amended State Plan Federally enforceable.

DATES: This direct final rule will be effective September 8, 2008, unless EPA receives adverse comments by August 7, 2008. If adverse comments are received, EPA will publish a timely withdrawal of the direct final rule in the Federal Register informing the public that the rule will not take effect.

ADDRESSES: Submit your comments, identified by Docket ID No. EPA-R05-OAR-2008-0952, by one of the following methods:

1. www.regulations.gov: Follow the on-line instructions for submitting comments.

2. E-mail: nash.carlton@epa.gov.

3. Fax: (312) 886-6030.

4. Mail: Carlton T. Nash, Chief, Integrated Air Toxics Section, Air Toxics and Assessment Branch (AT-18J), U.S. Environmental Protection Agency, 77 West Jackson Boulevard, Chicago, Illinois 60604.

5. Hand Delivery: Carlton T. Nash, Chief, Integrated Air Toxics Section, Air Toxics and Assessment Branch (AT-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2008-0952. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This Facility is open from 8:30 a.m. to 4:30 p.m., Monday through Friday, excluding legal holidays. We recommend that you telephone Margaret Sieffert, Environmental Engineer, at (312) 353-1151 before visiting the Region 5 office.

FOR FURTHER INFORMATION CONTACT: Margaret Sieffert, Environmental Engineer, Environmental Protection Agency, Region 5, 77 West Jackson Boulevard (AT-18J), Chicago, Illinois 60604, (312) 353-1151, sieffert.margaret@epa.gov or Michele Palmer, Environmental Engineer, Environmental Protection Agency, Region 5, 77 West Jackson Boulevard (ML-10C), Chicago, Illinois 60604, (312) 353-3646, palmer.michele@epa.gov.

SUPPLEMENTARY INFORMATION: Throughout this document whenever “we,” “us,” or “our” is used, we mean EPA. This supplementary information section is arranged as follows:

I. What Did Indiana Submit to EPA?

II. What Are the Revised MWC State Plan Requirements?

III. What Is the Revised Indiana MWC Plan?

IV. Does the Revised MWC State Plan Meet Federal Requirements?

V. What Action Is EPA Taking?

VI. Statutory and Executive Order Reviews

I. What Did Indiana Submit to EPA?

On August 24, 2007, Indiana submitted amendments to its State Plan to meet Federal rules applicable to large MWCs, which EPA implements under sections 111(d) and 129 of the Clean Air Act. Section 129(a)(5) of the Clean Air Act requires that EPA conduct a five-year review of the emissions guidelines and, if appropriate, revise them. These amendments are intended to revise the State plan approved by EPA on November 18, 1999 (64 FR 62928). If this approval becomes effective, it will make the amended Indiana MWC rule consistent with the amended Federal EG amendments promulgated on May 10, 2006.

There is currently one large MWC plant in Indiana covered by the revised rule, Covanta Indianapolis, Inc. This facility has three subject units.

II. What Are the Revised MWC State Plan Requirements?

On May 10, 2006 (71 FR 27324), EPA published a final rule amending the emissions guidelines at 40 CFR part 60, Subpart Cb, to reflect the actual performance levels being achieved by existing MWC units. This rulemaking included revised limits for dioxin/furan (only for units equipped with electrostatic precipitators), mercury, cadmium, lead, particulate matter, and nitrogen oxides (for some types of units). It also contained revisions to the compliance testing provisions to require increased data availability from continuous emissions monitoring systems (CEMS). CEMS are required to generate at least ninety-five percent (95%) data availability on a calendar year basis and at least ninety percent (90%) data availability on a calendar quarter basis. The compliance testing provisions have also been revised to allow the optional use of CEMS to monitor particulate matter and mercury. Other revisions include:

• Operator stand-in provisions to clarify how long a shift supervisor is allowed to be off site when a provisionally certified control room operator is standing in;

• An eight-hour block average for measuring activated carbon injection rate;

• A provision for waiver of operating parameter limits during the mercury performance test and for two weeks preceding the test, as is already allowed for dioxin testing;

• A revision to relative accuracy criterion for sulfur dioxide and carbon monoxide CEMS;

• Flexibility to the annual compliance testing schedule so that a facility tests once per calendar year, but no less than nine months and no more than 15 months since the previous test;

• Allowing use of parametric monitoring limits from an exceptionally well-operated MWC unit to be applied to all identical units at the same plant site without retesting for dioxin;

• The option of monitoring the activated carbon injection pressure or equivalent parameter; and

• Clarifying the exclusion of monitoring data from compliance calculations.

III. What Is the Revised Indiana MWC Plan?

Indiana adopted the revised State Plan to implement the EG revisions published by the EPA on May 10, 2006, in accordance with procedures established in 40 CFR part 60, subpart Cb. The submission only addresses those portions of the State Plan that have been updated since EPA's November 18, 1999, approval of Indiana's previous MWC rules. It is comprised of revisions to 326 IAC 11-7, which establishes emission standards for existing MWC units consistent with the Federal rules. These became effective in Indiana on August 9, 2007.

The remainder of the changes are accomplished by Indiana having incorporated by reference the May 10, 2006 Federal requirements. This became Federally effective when EPA approved the State's most recent updates to the Code of Federal Regulations under 326 IAC 1-1-3 (the definition of “References to Code of Federal Regulations”). See 73 FR 14389 (March 18, 2008). In addition, Indiana made the emission limits in 326 IAC 11-7 apply upon the effective date of the rule, August 9, 2007, which is two years earlier than required by the EPA's MWC revisions.

The Revised Plan adopts the same emission limits that are in the Federal emission guidelines. Accordingly, the emission limits for particulate matter (PM), cadmium, lead, and mercury are as follows:

Pollutant | Emission limits
Particulate matter | 25 milligrams per dry standard cubic meter (mg/dscm).1, 4
Opacity | 10% based on a 6-minute average.
Cadmium | 0.035 mg/dscm.¹
Lead | 0.400 mg/dscm.¹
Mercury | 0.050 mg/dscm; or 15% of the potential mercury emissions concentration.3, 4
Sulfur dioxide | 29 parts per million by volume (ppmv); or 20% of the potential sulfur dioxide emission concentration.3, 5
Hydrogen chloride | 29 ppmv; or 5% of the potential hydrogen chloride emissions concentration.2, 3
Organic emission (expressed as total mass dioxins/furans) | 30 nanograms per dry standard cubic meter (ng/dscm) total mass.¹
Nitrogen oxides | 205 ppmv.²
Carbon monoxide⁵ | 100 ppmv⁵ (based on a 4-hour block averaging time).
¹ Corrected to seven percent (7%) oxygen.
² Corrected to seven percent (7%) oxygen, dry basis.
³ Whichever concentration is less stringent.
⁴ Corrected to seven percent (7%) oxygen, dry basis, calculated as a 24-hour daily geometric mean.
⁵ Measured at the combustor outlet in conjunction with a measurement of oxygen concentration, corrected to seven percent (7%) oxygen, dry basis, calculated as an arithmetic mean.

IV. Does the Revised MWC State Plan Meet Federal Requirements?

IDEM held public hearings for the preliminary adoption of the State rule on December 6, 2006, and for final adoption on February 7, 2007. The State did not receive any comments during the public comment period or at the first and second public hearings.

For the reasons discussed above, EPA has determined that the revised Plan meets all applicable Federal requirements.

V. What Action Is EPA Taking?

We are approving, through direct final rulemaking action, Indiana's revised State Plan for large MWCs, submitted to EPA on August 24, 2007. This plan revision approval excludes certain authorities retained by EPA, as stated in 40 CFR 60.30b(b) and 60.50b(n).

We are publishing this action without prior proposal because we view this as a non-controversial amendment and anticipate no adverse comments. However, in the proposed rules section of this Federal Register publication, we are publishing a separate document that will serve as the proposal to approve the state plan if relevant adverse written comments are filed. This rule will be effective September 8, 2008 without further notice unless we receive relevant adverse written comments by August 7, 2008. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective September 8, 2008.

VI. Statutory and Executive Order Reviews

Executive Order 12866: Regulatory Planning and Review

Under Executive Order 12866 (58 FR 51735, October 4, 1993), this action is not a “significant regulatory action” and therefore is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (59 FR 22951, November 9, 2000).

Executive Order 13132: Federalism

This action also does not have Federalism implications because it does not have substantial direct effects on the states, on the relationship between the national government and the states, or on the distribution of power and responsibilities among the various levels of government, as specified in Executive Order 13132 (64 FR 43255, August 10, 1999). This action merely approves a state rule implementing a federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it approves a state rule implementing a Federal Standard.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 8, 2008. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 62

Environmental protection, Air pollution control, Administrative practice and procedure, Intergovernmental relations, Municipal waste combustors, Reporting and recordkeeping requirements.

Dated: June 24, 2008.
Richard C. Karl,
Acting Regional Administrator, Region 5.

40 CFR part 62 is amended as follows:

PART 62—[AMENDED]

1. The authority citation for part 62 continues to read as follows:

Authority: 42 U.S.C. 7401 et seq.

Subpart P—Indiana

2. Sections 62.3650, 62.3651, and 62.3652 to subpart P are revised to read as follows:

* * * * *

§ 62.3650 Identification of plan.

(a) On September 30, 1999, Indiana submitted the State Plan for implementing the Federal Large Municipal Waste Combustor (MWC) Emission Guidelines to control emissions from existing MWCs with the capacity to combust greater than 250 tons per day of municipal solid waste. The enforceable mechanism for this plan is a State rule codified in 326 Indiana Administrative Code (IAC) 11-7. The rule was adopted on September 2, 1998, filed with the Secretary of State on January 18, 1999, and became effective on February 17, 1999. The rule was published in the Indiana State Register on March 1, 1999 (22 IR 1967).

(b) On August 24, 2007, Indiana submitted a revised State plan as required by sections 129(a)(5) and 129 (b)(2) of the Act. The revised (Phase II) State plan implements amendments to 40 CFR part 60, subpart Cb published in the Federal Register on May 10, 2006. The Phase II State plan includes an amendment to State Rule 326 IAC 11-7, that was adopted by Indiana on February 7, 2007.

§ 62.3651 Identification of sources.

The plan applies to all existing municipal waste combustors with the capacity to combust greater than 250 tons per day of municipal solid waste, and for which construction, reconstruction, or modification was commenced on or before September 20, 1994, as consistent with 40 CFR part 60, subpart Cb. Subject facilities include the Indianapolis Resource Recovery Facility in Indianapolis, Indiana.

§ 62.3652 Effective date.

The effective date of Phase I of the approval of the Indiana State Plan for municipal waste combustors with the capacity to combust greater than 250 tons per day of municipal solid waste was January 18, 2000.

Phase II of the plan revision is effective September 8, 2008.

* * * * *

[FR Doc. E8-15349 Filed 7-7-08; 8:45 am]

BILLING CODE 6560-50-P